DEPARTMENT OF TRANSPORTATION

Federal Aviation Administration

14 CFR Part 39

[Docket No. FAA-2021-0602; Project Identifier 2019-CE-022-AD]

RIN 2120-AA64

Airworthiness Directives; Diamond Aircraft Industries GmbH Airplanes

AGENCY: Federal Aviation Administration (FAA), DOT.

ACTION: Notice of proposed rulemaking (NPRM).

SUMMARY: The FAA proposes to adopt a new airworthiness directive (AD) for all Diamond Aircraft Industries GmbH Models DA 42, DA 42 NG, and DA 42 M-NG airplanes. This proposed AD was prompted by mandatory continuing airworthiness information (MCAI) originated by an aviation authority of another country to identify and correct an unsafe condition on an aviation product. The MCAI describes the unsafe condition as failure of the nose landing gear (NLG) actuator attachment lever and detachment from the NLG leg. This proposed AD would require repetitively inspecting the NLG actuator attachment lever for cracks and damage and taking any necessary corrective actions. The FAA is proposing this AD to address the unsafe condition on these products.

DATES: The FAA must receive comments on this NPRM by September 17, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this AD, contact Diamond Aircraft Industries GmbH, N.A. Otto-Straße 5, A-2700 Wiener Neustadt, Austria; phone: +43 2622 26700; fax: +43 2622 26780; email: office@diamond-air.at; website: https://www.diamondaircraft.com. You may view this service information at the FAA, Airworthiness Products Section, Operational Safety Branch, 901 Locust St, Kansas City, MO 64106. For information on the availability of this material at the FAA, call (816) 329-4148.

Examining the AD Docket

You may examine the AD docket at https://www.regulations.gov by searching for and locating Docket No. FAA-2021-0602; or in person at Docket Operations between 9 a.m. and 5 p.m., Monday through Friday, except Federal holidays. The AD docket contains this NPRM, the MCAI, any comments received, and other information. The street address for Docket Operations is listed above.

FOR FURTHER INFORMATION CONTACT: Penelope Trease, Aviation Safety Engineer, General Aviation & Rotorcraft Section, International Validation Branch, FAA, 26805 E. 68th Avenue, Denver, CO 80249; phone: (303) 342-1094; email: penelope.trease@faa.gov.

SUPPLEMENTARY INFORMATION:

Comments Invited

The FAA invites you to send any written relevant data, views, or arguments about this proposal. Send your comments to an address listed under ADDRESSES. Include “Docket No. FAA-2021-0602; Project Identifier 2019-CE-022-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Penelope Trease, Aviation Safety Engineer, General Aviation & Rotorcraft Section, International Validation Branch, FAA, 26805 E. 68th Avenue, Denver, CO 80249. Any commentary that the FAA receives which is not specifically designated as CBI will be placed in the public docket for this rulemaking.

Background

The European Union Aviation Safety Agency (EASA), which is the Technical Agent for the Member States of the European Union, has issued EASA AD 2019-0066, dated March 27, 2019 (referred to after this as “the MCAI”), to correct an unsafe condition for Diamond Aircraft Industries GmbH (Austria) and Diamond Aircraft Industries Inc. (Canada) Model DA 42, DA 42 M, DA 42 NG, and DA 42 M-NG airplanes. The MCAI states:

An occurrence was reported of a failed NLG actuator attachment lever, resulting in disconnection from the NLG leg. When the landing gear (LG) was retracted, the NLG actuator interfered with the rudder control rods, forcing the rudder into left-hand deflection. After lowering the LG, full rudder control was restored. The investigation results showed that the actuator lever failed due to a crack that had developed over a longer time period.

This condition, if not detected and corrected, could lead to restricted rudder travel in LG retracted configuration, possibly resulting in reduced control of the aeroplane.

To address this potential unsafe condition, [Diamond Aircraft Industries] DAI issued the applicable [mandatory service bulletin] MSB, providing instructions to inspect the affected part.

For the reason described above, this [EASA] AD requires repetitive inspections of the NLG leg actuator attachment lever and, depending on findings, replacement of the NLG leg.

You may examine the MCAI in the AD docket at https://www.regulations.gov by searching for and locating Docket No. FAA-2021-0602.

Related Service Information Under 1 CFR Part 51

The FAA reviewed Diamond Aircraft Industries Work Instruction WI-MSB 42-136 and WI-MSB 42NG-078, Revision 1, dated January 24, 2019 (published as one document with Mandatory Service Bulletin MSB 42-136/1 and MSB 42NG-078, dated January 24, 2019). This service information provides instructions for repetitively inspecting the NLG actuator attachment lever with replacement of the NLG leg assembly as necessary. This service information is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and service information referenced above. The FAA is issuing this NPRM after determining the unsafe condition described previously is likely to exist or develop on other products of the same type design.

Proposed AD Requirements in This NPRM

This proposed AD would require accomplishing the actions specified in the service information already described.

Differences Between This Proposed AD and the MCAI

The MCAI applies to Models DA 42, DA 42 M, DA 42 NG, and DA 42 M-NG airplanes. This proposed AD would not apply to the Model DA 42 M because they do not have an FAA type certificate.

Costs of Compliance

The FAA estimates that this AD, if adopted as proposed, would affect 40 airplanes of U.S. registry. The FAA also estimates that it would take about 1 work-hour per airplane to comply with the inspection requirement of this proposed AD, and no parts would be necessary. Based on these figures, the FAA estimates the cost of the inspection for U.S. operators to be $3,400, or $85 per airplane.

In addition, the FAA estimates that any necessary replacement actions would take about 6 work-hours and require parts costing $1,500, for a cost of $2,010 per airplane. The FAA has no way of determining the number of airplanes that may need these actions.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Diamond Aircraft Industries GmbH: Docket No. FAA-2021-0602; Project Identifier 2019-CE-022-AD.

(a) Comments Due Date

The FAA must receive comments on this airworthiness directive (AD) by September 17, 2021.

(b) Affected ADs

None.

(c) Applicability

This AD applies to Diamond Aircraft Industries GmbH Models DA 42, DA 42 NG, and DA 42 M-NG airplanes, all serial numbers, certificated in any category.

(d) Subject

Joint Aircraft System Component (JASC) Code 3221, Nose/Tail Landing Gear Attach Section.

(e) Unsafe Condition

This AD was prompted by mandatory continuing airworthiness information (MCAI) originated by an aviation authority of another country to identify and address an unsafe condition on an aviation product. The MCAI describes the unsafe condition as failure of the nose landing gear (NLG) actuator attachment lever and detachment from the NLG leg. The FAA is issuing this AD to detect and correct cracks in the NLG actuator attachment lever, which could result in restricted rudder travel with the NLG retracted and reduced airplane control.

(f) Compliance

Comply with this AD within the compliance times specified, unless already done.

(g) Definition of Airworthy Part

For the purposes of this AD, an airworthy part is an NLG leg assembly that has accumulated 1,800 or fewer hours time-in-service (TIS) since first installation on an airplane or that has passed the inspection (no cracks and no damage) required by paragraph (h)(1) of this AD.

(h) Required Actions

(1) Inspect the NLG actuator attachment lever for cracks and damage in the areas shown in paragraph 2 of the Instructions in Diamond Aircraft Work Instruction WI-MSB 42-136 and WI-MSB 42NG-078, Revision 1, dated January 24, 2019 (published as one document with Mandatory Service Bulletin MSB 42-136/1 and MSB 42NG-078, dated January 24, 2019) at the following applicable compliance times:

(i) For airplanes with an NLG assembly that has accumulated less than 1,800 hours TIS as of the effective date of this AD: Within 200 hours TIS after the NLG assembly accumulates 1,800 hours TIS or within 12 months after the NLG assembly accumulates 1,800 hours TIS, whichever occurs first, and thereafter at intervals not to exceed 200 hours TIS; or

(ii) For airplanes with an NLG assembly that has accumulated 1,800 or more hours TIS as of the effective date of this AD: Within 210 hours TIS after the effective date of this AD or within 12 months after the effective date of this AD, whichever occurs first, and thereafter at intervals not to exceed 200 hours TIS.

(2) After each inspection required by paragraph (h)(1) of this AD, if there is a crack or damage on the NLG actuator attachment lever, before further flight, replace the NLG leg assembly with an airworthy part as defined by this AD.

(3) As of the effective date of this AD, do not install an NLG leg assembly on any airplane unless it is an airworthy part as defined by this AD.

(i) Alternative Methods of Compliance (AMOCs)

(1) The Manager, International Validation Branch, has the authority to approve AMOCs for this AD, if requested using the procedures found in 14 CFR 39.19. In accordance with 14 CFR 39.19, send your request to your principal inspector or local Flight Standards District Office, as appropriate. If sending information directly to the manager of the certification office, send it to the attention of the person identified in Related Information or email: 9-AVS-AIR-730-AMOC@faa.gov.

(2) Before using any approved AMOC, notify your appropriate principal inspector, or lacking a principal inspector, the manager of the local flight standards district office/certificate holding district office.

(j) Related Information

(1) For more information about this AD contact Penelope Trease, Aviation Safety Engineer, General Aviation & Rotorcraft Section, International Validation Branch, FAA, 26805 E. 68th Avenue, Denver, CO 80249; phone: (303) 342-1094; email: penelope.trease@faa.gov.

(2) Before using any approved AMOC, notify your appropriate principal inspector, or lacking a principal inspector, the manager of the local flight standards district office/certificate holding district office.

(2) Refer to European Union Aviation Safety Agency (EASA) AD No. 2019-0066, dated March 27, 2019, for more information. You may examine the EASA AD in the AD docket at https://www.regulations.gov by searching for and locating Docket No. FAA-2021-0602.

(3) For service information identified in this AD, contact the Diamond Aircraft Industries GmbH, N.A. Otto-Straße 5, A-2700 Wiener Neustadt, Austria; phone: +43 2622 26700; fax: +43 2622 26780; email: office@diamond-air.at; website: https://www.diamondaircraft.com. You may review this referenced service information at the FAA, Airworthiness Products Section, Operational Safety Branch, 901 Locust, Kansas City, MO 64106. For information on the availability of this material at the FAA, call (816) 329-4148.

Issued on July 21, 2021.
Gaetano A. Sciortino,
Deputy Director for Strategic Initiatives, Compliance & Airworthiness Division, Aircraft Certification Service.

[FR Doc. 2021-16464 Filed 8-2-21; 8:45 am]

BILLING CODE 4910-13-P